DEPARTMENT OF ENERGY

Federal Energy Regulatory Commission

Combined Notice of Filings #1

Take notice that the Commission received the following exempt wholesale generator filings:

Docket Numbers: EG21-192-000.

Applicants: Jayhawk Wind, LLC.

Description: Notice of Self-Certification of Jayhawk Wind, LLC.

Filed Date: 6/28/21.

Accession Number: 20210628-5189.

Comments Due: 5 p.m. ET 7/19/21.

Docket Numbers: EG21-193-000.

Applicants: Minonk Stewardship Wind LLC.

Description: Notice of Self-Certification as Exempt Wholesale Generator of Minonk Stewardship Wind LLC.

Filed Date: 7/1/21.

Accession Number: 20210701-5287.

Comments Due: 5 p.m. ET 7/22/21.

Take notice that the Commission received the following electric rate filings:

Docket Numbers: ER10-1790-019; ER10-2596-011; ER11-3325-006; ER21-1716-001.

Applicants: BP Energy Company, BP Energy Retail LLC, Fowler Ridge II Wind Farm LLC, Whiting Clean Energy, Inc.

Description: Triennial Market Power Analysis for Central Region of BP Energy Company, et al.

Filed Date: 6/29/21.

Accession Number: 20210629-5273.

Comments Due: 5 p.m. ET 8/30/21.

Docket Numbers: ER10-1817-024.

Applicants: Southwestern Public Service Company.

Description: Triennial Market Power Analysis for Southwest Power Pool, Inc. Region of Southwestern Public Service Company.

Filed Date: 6/30/21.

Accession Number: 20210630-5335.

Comments Due: 5 p.m. ET 8/30/21.

Docket Numbers: ER10-1936-009.

Applicants: Carville Energy LLC.

Description: Triennial Market Power Analysis for Central Region of Carville Energy LLC.

Filed Date: 6/30/21.

Accession Number: 20210630-5331.

Comments Due: 5 p.m. ET 8/30/21.

Docket Numbers: ER10-2738-010; ER11-4267-015; ER20-2586-003; ER20-2587-002.

Applicants: The Empire District Electric Company, Algonquin Energy Services Inc., North Fork Ridge Wind, LLC, Kings Point Wind, LLC, Neosho Ridge Wind, LLC.

Description: Triennial Market Power Analysis for Southwest Power Pool, Inc. Region of The Empire District Electric Company, et al.

Filed Date: 6/30/21.

Accession Number: 20210630-5345.

Comments Due: 5 p.m. ET 8/30/21.

Docket Numbers: ER12-1933-013; ER12-1934-011.

Applicants: Interstate Power and Light Company, Wisconsin Power and Light Company.

Description: Triennial Market Power Analysis for Central Region of Interstate Power and Light Company, et al.

Filed Date: 6/30/21.

Accession Number: 20210630-5344.

Comments Due: 5 p.m. ET 8/30/21.

Docket Numbers: ER20-2004-001.

Applicants: Public Service Electric and Gas Company, PJM Interconnection, L.L.C.

Description: Compliance filing: PSEG submits Order 864 Compliance Filing re: Deficiency Letter to be effectiveN/A.

Filed Date: 7/2/21.

Accession Number: 20210702-5008.

Comments Due: 5 p.m. ET 7/23/21.

Docket Numbers: ER20-2408-002.

Applicants: Midcontinent Independent System Operator, Inc.

Description: Compliance filing: 2021-06-29 SA 3524 Ameren-Broadlands Wind Farm Sub FSA for FCA (J468) to be effective 10/1/2020.

Filed Date: 6/29/21.

Accession Number: 20210629-5126.

Comments Due: 5 p.m. ET 7/20/21.

Docket Numbers: ER21-1018-002.

Applicants: New York Independent System Operator, Inc.

Description: Compliance filing: NYISO Compliance, Notice of Effective Date, Operating Reserve Demand Curves to be effective 7/13/2021.

Filed Date: 6/29/21.

Accession Number: 20210629-5200.

Comments Due: 5 p.m. ET 7/20/21.

Docket Numbers: ER21-2084-000.

Applicants: Coso Geothermal Power Holdings, LLC.

Description: Amendment to June 4, 2021 Coso Geothermal Power Holdings, LLC tariff filing.

Filed Date: 6/30/21.

Accession Number: 20210630-5224.

Comments Due: 5 p.m. ET 7/21/21.

Docket Numbers: ER21-2334-000.

Applicants: Cross-Sound Cable Company, LLC.

Description: § 205(d) Rate Filing: Schedule 17 Reg Asset Filing to be effective 9/1/2021.

Filed Date: 7/1/21.

Accession Number: 20210701-5173.

Comments Due: 5 p.m. ET 7/22/21.

Docket Numbers: ER21-2335-000.

Applicants: NorthWestern Corporation.

Description: § 205(d) Rate Filing: SA 925—Firm PTP Transmission Service Agreement with Energy Keepers Inc. to be effective 9/1/2021.

Filed Date: 7/1/21.

Accession Number: 20210701-5176.

Comments Due: 5 p.m. ET 7/22/21.

Docket Numbers: ER21-2336-000.

Applicants: Tecolote Wind LLC.

Description: Baseline eTariff Filing: Tecolote Wind LLC MBR Tariff and Joint Application to be effective7/1/2021.

Filed Date: 7/1/21.

Accession Number: 20210701-5177.

Comments Due: 5 p.m. ET 7/22/21,

Docket Numbers: ER21-2337-000.

Applicants: ISO New England Inc., Eversource Energy Service Company.

Description: § 205(d) Rate Filing: PTO AC; Modifications to Monthly Regional Network Load Calculation to be effective 9/1/2021.

Filed Date: 7/1/21.

Accession Number: 20210701-5189.

Comments Due: 5 p.m. ET 7/22/21.

Docket Numbers: ER21-2338-000.

Applicants: PacifiCorp.

Description: Tariff Cancellation: Termination of WAPA Transmission Capacity Sharing in TOT 4A/4B to be effective 9/2/2021.

Filed Date: 7/1/21.

Accession Number: 20210701-5226.

Comments Due: 5 p.m. ET 7/22/21.

Docket Numbers: ER21-2339-000.

Applicants: PacifiCorp.

Description: § 205(d) Rate Filing: WAPA Transmission Capacity Sharing in AW/TOT 4B (RS 758) to be effective 9/2/2021.

Filed Date: 7/1/21.

Accession Number: 20210701-5227.

Comments Due: 5 p.m. ET 7/22/21.

Docket Numbers: ER21-2340-000.

Applicants: Consolidated Edison Company of New York, Inc.

Description: § 205(d) Rate Filing: Amendment BULK Storage-TRACE to be effective 7/1/2021.

Filed Date: 7/1/21.

Accession Number: 20210701-5236.

Comments Due: 5 p.m. ET 7/22/21.

Docket Numbers: ER21-2341-000.

Applicants: Appalachian Power Company.

Description: § 205(d) Rate Filing: OATT—Revise Attachment K, AEP Texas Inc. Rate Update to be effective 12/31/9998.

Filed Date: 7/1/21.

Accession Number: 20210701-5256.

Comments Due: 5 p.m. ET 7/22/21.

Docket Numbers: ER21-2342-000.

Applicants: ISO New England Inc.

Description: ISO New England Inc., Filing of Permanent De-List Bids, Retirement De-List Bids and Substitution Auction Test Prices Submitted for Forward Capacity Auction (FCA 16).

Filed Date: 7/1/21.

Accession Number: 20210701-5310.

Comments Due: 5 p.m. ET 7/22/21.

Docket Numbers: ER21-2344-000.

Applicants: PJM Interconnection, L.L.C.

Description: § 205(d) Rate Filing: Original ISA, SA No. 6092; Queue No. AD1-061/AF2-184 to be effective6/2/2021.

Filed Date: 7/2/21.

Accession Number: 20210702-5009.

Comments Due: 5 p.m. ET 7/23/21.

Docket Numbers: ER21-2345-000.

Applicants: PJM Interconnection, L.L.C.

Description: Tariff Cancellation: Notice of Cancellation of WMPA, SA No. 5825; Queue No. AF2-401 re: withdrawal to be effective 7/10/2021.

Filed Date: 7/2/21.

Accession Number: 20210702-5010.

Comments Due: 5 p.m. ET 7/23/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 2, 2021.
Debbie-Anne A. Reese,
Deputy Secretary.

[FR Doc. 2021-14663 Filed 7-8-21; 8:45 am]

BILLING CODE 6717-01-P